FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier and Ocean Freight Forwarder Transportation Intermediary Applicants:

Interport Company, Inc. dba Interport Lines, 2300 E. Higgins Road, Ste. 312, Elk Grove Village, IL 60007. Officer: Antonio J. Alvaro, President (Qualifying Individual).

Consolidators International, Inc., dba Corrigan's Express Freight dba Backstage Cargo USA, 8900 Bellanca Avenue, Los Angeles, CA 90045. Officer: Ronen Donde, Vice President (Qualifying Individual).

Dated: October 9, 2009.
Tanga S. FitzGibbon,
Assistant Secretary.

[FR Doc. E9-24835 Filed 10-14-09; 8:45 am]

BILLING CODE 6730-01-P